DEPARTMENT OF AGRICULTURE

Forest Service

Notice of Proposed New Special Recreation Permit Fee

AGENCY: Wallowa-Whitman National Forest, USDA Forest Service.

ACTION: Notice of proposed new special recreation permit fee.

SUMMARY: The Wallowa-Whitman National Forest is proposing to implement a Special Recreation Permit Fee on the Wild and Scenic Snake River which flows between Oregon and Idaho. Implementing a Special Recreation Permit Fee would allow the Forest Service to manage the specialized recreation use associated with float and power boating on the Wild and Scenic Snake River, and result in improved services and experiences. Fees are assessed based on the level of amenities and services provided, cost of operation and maintenance of river-related facilities, market assessment, and public comments received.

Boaters using the Wild and Scenic Snake River would be subject to a Special Recreation Permit Fee (boater-use permit fee) of $5.00 to $10.00 per person that would be collected from all private and commercial boaters and their occupants. The implementation of the fee on the Wild and Scenic Snake River is comparable to other federal day-use fees within the current Four Rivers reservation system for the Selway, Middle Fork Salmon, Main Salmon and other sections of the Snake Rivers. The area subject to the fee is the Snake River beginning at Hells Canyon Dam to Cache Creek Ranch (approximately 70 miles).

The exceptions to this boater-use permit fee are:

• Travel by private, noncommercial boat to any land in which the person has property rights.

• Any person who has right of access for hunting or fishing privileges under specific provisions of treaty or law.

• Individual outfitter/guides and their associated employees, while acting in an official capacity under the terms of their permit.

At this time there is no boater-use permit fee on the Wild and Scenic Snake River for float or power boats. Boater-use for private float and power boats is currently managed though a national reservation system, which limits the amount of boats during the primary use season to meet management plan direction. A $6.00 transaction cost is associated with this reservation permit and is completely retained by the reservation contractor. In the future the reservation permit fee will be continued in conjunction with the application of this proposed boater-use permit fee for private boaters.

At this time the listed boater-use permit fee is only a proposal and further analysis and public comment will occur before a decision is made. Funds from the proposed fee would be used for administrative and operational needs in the recreation area to enhance user experience and safety, sustain natural and cultural resources, and facility maintenance and improvements.

DATES: New fees would begin after, and contingent upon a review and recommendation by the John Day-Snake River Resource Advisory Council and approval by the Regional Forester for the Pacific Northwest Region. All comments should be received no later than 60 days from publication of this notice in the Federal Register. The publication date of this Notice in the Federal Register is the exclusive means for calculating the comment period for this proposal. Those wishing to comment should not rely upon dates or timeframe information provided by any other source.

Public Open House: A series of public open houses are scheduled to answer questions brought forth by the public.

The open house dates are:

1. July 5, 2016, 6 p.m. to 8 p.m., Boise, ID.

2. July 6, 2016, 6 p.m. to 8 p.m., Riggins, ID.

3. July 7, 2016, 6 p.m. to 8 p.m., Clarkston, WA.

4. July 8, 2016, 6 p.m. to 8 p.m., Joseph, OR.

ADDRESSES: Send written comments to: Jacob Lubera, Deputy District Ranger, Wallowa-Whitman National Forest, 201 East Second Street, P.O. Box 905, Joseph, Oregon 97846. Comments may also be faxed to 541-426-4978. Comments may be hand-delivered to the above address Monday through Friday, from 8 a.m. till 4:30 p.m., excluding legal holidays.

Electronic Comments: Electronic comments must be submitted in a format such as an email message, plain text (.txt), rich text format (.rtf), or Word (.docx) to comments-pacificnorthwest-wallowa-whitman@fs.fed.us. Emails submitted to email addresses other than the one listed above, in other formats than those listed, or containing viruses will be rejected. Comments can also be submitted at http://www.fs.usda.gov/detail/wallowa-whitman/specialplaces/?cid=fseprd481691. It is the responsibility of persons providing comments to submit them by the close of the comment period and ensure that their comments have been received.

FOR FURTHER INFORMATION CONTACT: Jacob Lubera, Deputy District Ranger, 541-426-5581, jlubera@fs.fed.us, or http://www.fs.usda.gov/detail/wallowa-whitman/specialplaces/?cid=stelprd3854363.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation.

Dated: June 14, 2016.
Jacob S. Lubera,
Deputy District Ranger.

[FR Doc. 2016-14471 Filed 6-20-16; 8:45 am]

BILLING CODE 3411-15-P